DEPARTMENT OF TRANSPORTATION

National Highway Traffic Safety Administration

[Docket No. NHTSA-2017-0034; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA), has determined that certain BFGoodrich gForce Rival S summer performance tires do not fully comply with Federal Motor Vehicle Safety Standard (FMVSS) No. 139, New Pneumatic Radial Tires for Light Vehicles. MNA filed a noncompliance report dated April 17, 2017. MNA also petitioned NHTSA on May 5, 2017, for a decision that the subject noncompliance is inconsequential as it relates to motor vehicle safety.

DATES: The closing date for comments on the petition is August 10, 2017.

ADDRESSES: Interested persons are invited to submit written data, views, and arguments on this petition. Comments must refer to the docket and notice number cited in the title of this notice and be submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION: I. Overview: Michelin North America, Inc. (MNA), has determined that certain BFGoodrich gForce Rival S summer performance tires do not fully comply with paragraph S5.2(d) of FMVSS No. 139, New Pneumatic Radial Tires for Light Vehicles. MNA filed a noncompliance report dated April 17, 2017, pursuant to 49 CFR part 573, Defect and Noncompliance Responsibility and Reports. MNA also petitioned NHTSA on May 5, 2017, pursuant to 49 U.S.C. 30118(d) and 30120(h) and 49 CFR part 556, for an exemption from the notification and remedy requirements of 49 U.S.C. Chapter 301 on the basis that this noncompliance is inconsequential as it relates to motor vehicle safety.

This notice of receipt of MNA's petition is published under 49 U.S.C. 30118 and 30120 and does not represent any agency decision or other exercise of judgment concerning the merits of the petition.

II. Tires Involved: Approximately 370 BFGoodrich gForce Rival S summer performance tires, size P335/30ZR18 95W LL, manufactured between March 2, 2017, and March 30, 2017, are potentially involved. Specifically, these tires are marketed to sports car owners who compete in track racing, autocross, and other such activities and events.

III. Noncompliance: MNA explains that the noncompliance is that the tire size designation markings on the sidewalls of the subject tires do not contain the tire type code designator symbol from The Tire and Rim Association yearbook, as required by paragraph S5.2(d) of FMVSS No. 139. Specially, the subject tire size reads “335/30ZR18 95W LL” but should read “P335/30ZR18 95W LL.”

IV. Rule Text: Paragraph S5.2(d) of FMVSS No. 139 states, in pertinent part:

S5.2 Performance requirements. Each tire shall conform to each of the following:

. . .

(d) Its load rating shall be that specified either in a submission made by an individual manufacturer, pursuant to S4, or in one of the publications described in S4 for its size designation, type and each appropriate inflation pressure. If the maximum load rating for a particular tire size is shown in more than one of the publications described in S4, each tire of that size designation shall have a maximum load rating that is not less than the published maximum load rating, or if there are differing maximum load ratings for the same tire size designation, not less than the lowest published maximum load rating.

V. Summary of MNA's Petition: MNA described the subject noncompliance and stated its belief that the noncompliance is inconsequential as it relates to motor vehicle safety.

In support of its petition, MNA submitted the following reasoning:

(a) Application—The subject tires are marked with the correct maximum load and pressure load index, and load description (“Light Load”) to ensure proper application. Additionally, the tires have the correct tread sticker label showing the correct size designation, part number, etc. to ensure proper application.

(b) Usage—The tire is marketed as a performance summer tire commonly used for competition events on tracks or autocross courses. Thus, the users of these products are enthusiasts who are attentive to details about vehicles and equipment such as tires. In such competition events the vehicles are normally operated at the lightest loads possible for performance optimization. These tires are normally not used in situations involving vehicles with full passenger or cargo loads.

(c) Other Markings—All other markings conform to the applicable regulations.

(d) Performance—The subject tire meets all performance requirements of FMVSS No. 139. In the event the tire is fitted to an application calling for the European Tire and Rim Technical Organization (ETRTO) standard load application of up to 850 kgs because of the missing “P” prefix, there should be no performance concerns. The tire has been tested to FMVSS No. 139 using the ETRTO standard load as a basis and it fulfills all performance requirements.

MNA concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve equipment distributors and dealers of the prohibitions on the sale, offer for sale, or introduction or delivery for introduction into interstate commerce of the noncompliant tires under their control after MNA notified them that the subject noncompliance existed.

Authority: 49 U.S.C. 30118, 30120: delegations of authority at 49 CFR 1.95 and 501.8.

Jeffrey M. Giuseppe,
Director, Office of Vehicle Safety Compliance.

[FR Doc. 2017-14420 Filed 7-10-17; 8:45 am]

BILLING CODE 4910-59-P